DEPARTMENT OF COMMERCE

National Oceanic and Atmospheric Administration

RIN 0648-XE600

Fisheries of the Caribbean, Gulf of Mexico, and South Atlantic; Reef Fish Resources of the Gulf of Mexico; Amendment 42

AGENCY: National Marine Fisheries Service (NMFS), National Oceanic and Atmospheric Administration (NOAA), Commerce.

ACTION: Notice of Intent (NOI) to prepare a draft environmental impact statement (DEIS); request for comments.

SUMMARY: The NMFS Southeast Region, in collaboration with the Gulf of Mexico Fishery Management Council (Council), intends to prepare a DEIS to describe and analyze a range of alternatives for management actions to be included in Amendment 42 to the Fishery Management Plan (FMP) for the Reef Fish Resources of the Gulf of Mexico (Amendment 42). Amendment 42 will consider an allocation-based management program for the headboat component of the reef fish recreational fishery in the Gulf of Mexico (Gulf). The purpose of this NOI is to solicit public comments on the scope of issues to be addressed in the DEIS.

DATES: Written comments on the scope of issues to be addressed in the DEIS will be accepted until June 9, 2016.

ADDRESSES: You may submit comments, identified by NOAA-NMFS-2016-0055, by either of the following methods:

• Electronic submission: Submit all electronic public comments via the Federal e-Rulemaking Portal. Go to www.regulations.gov/#!docketDetail;D=NOAA-NMFS-2016-0055, click the “Comment Now!” icon, complete the required fields, and enter or attach your comments.

• Mail: Submit written comments to Susan Gerhart, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Susan Gerhart, NMFS Southeast Regional Office, telephone: 727-824-5305; or email: susan.gerhart@noaa.gov.

SUPPLEMENTARY INFORMATION: The Council recently took action to provide more flexibility in managing the harvest of red snapper by the various components of the Gulf reef fish recreational sector. In 2014, the Council established separate private angling and Federal charter vessel/headboat (for-hire) components of the red snapper recreational sector. The decrease over time in the proportion of red snapper harvested by anglers fishing from Federal for-hire vessels and differences in regulatory environments faced by Federal for-hire operators and private anglers contributed to the Council's decision to restructure the red snapper recreational sector to increase flexibility for each component. Recreational fishing for other reef fish species has not been as restricted as red snapper, but fishing has closed in Federal waters in recent years for several popular reef fish species with recreational annual catch limits.

In early 2015, the Council requested the development of Amendment 42 to the Fishery Management Plan for Reef Fish Resources of the Gulf of Mexico (Amendment 42) to address management for the headboat component of the Gulf reef fish fishery recreational sector. Management measures under consideration in Amendment 42 include allocation-based programs. The purpose of the proposed measures in Amendment 42 is to reduce management uncertainty and improve economic conditions for operators and owners of Gulf reef fish headboats, and provide flexibility by increasing fishing opportunities for their angler passengers through a management program for Gulf headboats participating in the Southeast Region Headboat Survey (SRHS). The species that may be included in the program developed in Amendment 42 are red snapper, gray triggerfish, greater amberjack, gag, and red grouper.

In the Gulf, one Federal charter vessel/headboat permit for reef fish is issued by NMFS, and the permit does not distinguish between headboats and charter vessels. The SRHS collects catch and effort data from headboats in the Southeast Region, thereby producing a catch history for each vessel included in the survey. In addition, for fishery managers, the SRHS continues to be the sole source for effort and landings estimates for the headboat component as a whole. For these reasons, the vessels included in Amendment 42 are those vessels with Federal charter vessel/headboat permits for reef fish that also have landings in the SRHS, as described in Amendment 42. The availability of vessel-specific landings data through the SRHS may allow development of an allocation-based management program for headboats using those landings histories.

NMFS, in collaboration with the Council, will develop a DEIS for Amendment 42 to describe and analyze alternatives to address the management needs described above, including the “no action” alternative. In accordance with NOAA's Administrative Order 216-6A and the regulations issued by the Council on Environmental Quality (CEQ) for implementing the National Environmental Policy Act (NEPA; 40 CFR parts 1500-1508), NMFS, in collaboration with the Council, has identified preliminary environmental issues as a means to initiate discussion for scoping purposes only. These preliminary issues may not represent the full range of issues that eventually will be evaluated in the DEIS. A copy of the Amendment 42 draft options paper is available at: http://sero.nmfs.noaa.gov/sustainable_fisheries/gulf_fisheries/reef_fish/index.html.

Comments on the scope of the DEIS may be submitted in writing to NMFS (see ADDRESSES) during the 30-day scoping period. After the scoping period and during the development of Amendment 42, the Council will accept written comments on the action, and oral comments may be made during the public testimony portion of any Council meeting. The next Council meeting will be June 20-24, 2016, at the Hilton Clearwater Beach, 400 Mandalay Avenue, Clearwater Beach, FL.

After the DEIS associated with Amendment 42 is completed, it will be filed with the Environmental Protection Agency (EPA). After filing, the EPA will publish a notice of availability of the DEIS for public comment in the Federal Register. Consistent with the CEQ regulations, the DEIS will have a 45-day public comment period.

The Council and NMFS will consider public comments received on the DEIS in developing the final environmental impact statement (FEIS) and before adopting final management measures for the amendment. NMFS will submit the consolidated final amendment and supporting FEIS to the Secretary of Commerce (Secretary) for review as required by the Magnuson-Stevens Fishery Conservation and Management Act.

NMFS will announce, through a notification in the Federal Register, the availability of the final amendment for public review during the Department of Commerce Secretarial review period and will consider all public comments. During Secretarial review, NMFS will also file the FEIS with the EPA, and the EPA will publish a notice of availability for the FEIS in the Federal Register. This public comment period is expected to be concurrent with the Secretarial review period and will end prior to final agency action to approve, disapprove, or partially approve Amendment 42.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: May 4, 2016.
Emily H. Menashes,
Acting Director, Office of Sustainable Fisheries, National Marine Fisheries Service.

[FR Doc. 2016-10911 Filed 5-9-16; 8:45 am]

BILLING CODE 3510-22-P